DEPARTMENT OF ENERGY

Federal Energy Regulatory Commission

[Docket No. IC16-5-000]

Commission Information Collection Activities (FERC-714 and FERC-730); Comment Request

AGENCY: Federal Energy Regulatory Commission, DOE.

ACTION: Comment request.

SUMMARY: In compliance with the requirements of the Paperwork Reduction Act of 1995, 44 U.S.C. 3507(a)(1)(D), the Federal Energy Regulatory Commission (Commission or FERC) is submitting its information collections FERC-714 (Annual Electric Balancing Authority Area and Planning Area Report) and FERC-730 (Report of Transmission Investment Activity) to the Office of Management and Budget (OMB) for review of the information collection requirements. Any interested person may file comments directly with OMB and should address a copy of those comments to the Commission as explained below. The Commission previously issued a Notice in the Federal Register (80 FR 80355, 12/24/2015) requesting public comments. The Commission received no comments on the FERC-714 or FERC-730 and is making this notation in its submittal to OMB.

DATES: Comments on the collections of information are due by April 25, 2016.

ADDRESSES: Comments filed with OMB, identified by the OMB Control No. 1902-0140 (FERC-714) and 1902-0239 (FERC-730) should be sent via email to the Office of Information and Regulatory Affairs: oira_submission@omb.gov. Attention: Federal Energy Regulatory Commission Desk Officer. The Desk Officer may also be reached via telephone at 202-395-0710.

A copy of the comments should also be sent to the Commission, in Docket No. IC16-5-000, by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION: Type of Request: Three-year extension of the information collection requirements for all collections described below with no changes to the current reporting requirements. Please note that each collection is distinct from the next.

Comments: Comments are invited on: (1) Whether the collections of information are necessary for the proper performance of the functions of the Commission including whether the information will have practical utility; (2) the accuracy of the agency's estimates of the burden and cost of the collections of information, including the validity of the methodology and assumptions used; (3) ways to enhance the quality, utility and clarity of the information collections; and (4) ways to minimize the burden of the collections of information on those who are to respond, including the use of automated collection techniques or other forms of information technology.

FERC-714 [Annual Electric Balancing Authority Area and Planning Area Report] ¹

¹ The renewal request in this IC docket is for the current FERC-714, with no change to the reporting requirements. The FERC-714 is also part of the Forms Refresh effort (started in Docket No. AD15-11), which is a separate activity.

OMB Control No.: 1902-0140.

Abstract: The Commission uses the FERC-714 data to analyze power system operations. These analyses estimate the effect of changes in power system operations resulting from the installation of a new generating unit or plant, transmission facilities, energy transfers between systems, and/or new points of interconnections. The FERC-714 data assists in providing a broad picture of interconnected balancing authority area operations including comprehensive information of balancing authority area generation, actual and scheduled inter-balancing authority area power transfers, and net energy for load, summer and winter generation peaks and system lambda. The Commission also uses the data to prepare status reports on the electric utility industry including a review of inter-balancing authority area bulk power trade information.

The Commission uses the collected data from planning areas to monitor forecasted demands by electric utilities with fundamental demand responsibilities and to develop hourly demand characteristics.

Type of Respondent: Electric utility balancing authorities and planning areas in the United States.

Estimate of Annual Burden: The Commission estimates the annual public reporting burden and cost² (rounded) for the information collection as follows:

² The hourly cost (wages plus benefits), is based on the Bureau of Labor Statistics May 2014 National Industry-Specific Occupational Employment and Wage Estimates (at http://www.bls.gov/oes/current/naics2_22.htm). The average hourly cost (wages plus benefits) of $68.66/hour is the average of the following:

• Management (Code 11-0000), $78.04/hr.

• Computer and mathematical (Code 15-0000), $58.25/hr.

• Electrical Engineers (Code 17-2071), $66.45/hr.

• Economist (Code 19-3011), $73.04/hr.

• Computer and Information Systems Managers (Code 11-3021), $94.55/hr.

• Accountants and Auditors (Code 13-2011), $51.11/hr.

• Transportation, Storage, and Distribution Managers (Code 11-3071), $73.65/hr.

• Power Distributors and Dispatchers (Code 51-8012), $54.16/hr.

FERC-714 (Annual Electric Balancing Authority Area and Planning Area Report)
Number of respondents | Annual number of responses per respondent | Total number of responses | Average burden & cost per response ³ | Total annual burden hours & total annual cost | Cost per respondent ($)
(1) | (2) | (1) * (2) = (3) | (4) | (3) * (4) = (5) | (5) ÷ (1)
177 | 1 | 177 | 87 $5,973 | 15,399 $1,057,295 | $5,973

FERC-730 [Report of Transmission Investment Activity]

OMB Control No.: 1902-0239.

³ The estimates for cost per response are derived using the following formula: Average Burden Hours per Response * $72.00 per Hour = Average Cost per Response. The hourly cost figure comes from the FERC average salary plus benefits ($149,489/year). Commission staff believes the FERC average salary plus benefits to be representative wage (plus benefits) for industry respondents.

Abstract: Pursuant to Section 219 ⁴ of the Federal Power Act, the Commission issued FERC Order No. 679,⁵ Promoting Transmission Investment Through Pricing Reform. In Order No. 679 FERC amended its regulations in 18 CFR 35.35 to establish incentive-based (including performance-based) rate treatments for the transmission of electric energy in interstate commerce by public utilities. The Commission intended the order to benefit consumers by ensuring reliability and to reduce the cost of delivered power by reducing transmission congestion. Order No. 679 also adopted an annual reporting requirement (FERC-730) for utilities that receive incentive rate treatment for specific transmission projects. The FERC-730 provides annual data on transmission capital expenditures as well as project status detail. The Commission requires that filers specify which projects are currently receiving incentives in the project detail table and that they group together those facilities receiving the same incentive. Specifically, in accordance with the statute, public utilities with incentive rates must file:

⁴ Energy Policy Act of 2005, Pub. L. 109-58, 119 Stat. 594, 315 and 1283 (2005).

⁵ RM06-4-000 (issued 7/20/2006), published at 71 FR 43294.

• Actual transmission investment for the most recent calendar year, and projected, incremental investments for the next five calendar years (in dollar terms); and

• a project by project listing that specifies for each project the most up to date, expected completion date, percentage completion as of the date of filing, and reasons for delays for all current and projected investments over the next five calendar years. Projects with projected costs less than $20 million are excluded from this listing.

To ensure that Commission rules are successfully meeting the objectives of Section 219, the Commission collects industry data, projections and related information that detail the level of investment. FERC-730 information regarding projected investments as well as information about completed projects allows the Commission to monitor the success of the transmission pricing reforms and to determine the status of critical projects and reasons for delay.

Type of Respondent: Public utilities that have been granted incentives based rate treatment for specific transmission projects under the provisions of 18 CFR 35.35(h) must file the FERC-730.

Estimate of Annual Burden: The Commission estimates the annual public reporting burden for the information collection as:

FERC-730 (Report of Transmission Investment Activity)
Number of respondents | Annual number of responses per respondent | Total number of responses | Average burden & cost per response ³ | Total annual burden hours & total annual cost | Cost per respondent ($)
(1) | (2) | (1) * (2) = (3) | (4) | (3) * (4) = (5) | (5) ÷ (1)
63 | 1 | 63 | 30 $2,160 | 1,890 $136,080 | $2,160

Dated: March 21, 2016.
Nathaniel J. Davis, Sr.,
Deputy Secretary.

[FR Doc. 2016-06777 Filed 3-24-16; 8:45 am]

BILLING CODE 6717-01-P